DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) Modified
City of Baltimore, Maryland
Docket No.: FEMA-B-1066
Maryland | City of Baltimore | Gwynn Falls | Approximately 30 feet downstream of Old Annapolis Road | +9
|  |  | Approximately 2,450 feet upstream of Forest Park Avenue | +275
Maryland | City of Baltimore | Herring Run | Just downstream of the I-95 bridge | +14
|  |  | Approximately 1,300 feet upstream of the I-895 bridge | +31
Maryland | City of Baltimore | Jones Falls | Approximately 50 feet downstream of East Pratt Street | +9
|  |  | Approximately 200 feet west of the intersection of Falls Road and Maryland Avenue | +67
Maryland | City of Baltimore | Maidens Choice Run | Approximately 250 feet downstream of Colleen Road northeast of the intersection of South Beechfield Avenue | +173
|  |  | Approximately 270 feet southeast of the intersection of Mallow Hill Road & Mardrew Road | +333
Maryland | City of Baltimore | Unnamed Tributary to Herring Run | Approximately 1,420 feet upstream of North Bend Road | +16
|  |  | Approximately 2,000 feet upstream of North Point Road | +36
* National Geodetic Vertical Datum.
+ North American Vertical Datum.
# Depth in feet above ground.
‸ Mean Sea Level, rounded to the nearest 0.1 meter.
ADDRESSES
City of Baltimore
Maps are available for inspection at the Department of Planning, 401 East Fayette Street, 8th Floor, Baltimore, MD 21202.

Flooding source(s) | Location of referenced elevation | * Elevation in feet (NGVD) + Elevation in feet (NAVD) # Depth in feet above ground ‸ Elevation in meters (MSL) Modified | Communities affected
Sierra County, California, and Incorporated Areas
Docket No.: FEMA-B-1128
Downie River | Approximately 0.76 mile downstream of Jersey Flat Bridge | +2897 | Unincorporated Areas of Sierra County.
| Approximately 167 feet upstream of Jersey Flat Bridge | +2933
North Yuba River | Approximately 5.45 miles downstream of Goodyears Bar Bridge | +2645 | Unincorporated Areas of Sierra County.
| Approximately 0.38 mile upstream of Goodyears Bar Bridge | +2974
* National Geodetic Vertical Datum.
+ North American Vertical Datum.
# Depth in feet above ground.
‸ Mean Sea Level, rounded to the nearest 0.1 meter.
ADDRESSES
Unincorporated Areas of Sierra County
Maps are available for inspection at the Sierra County Courthouse Annex, 101 Courthouse Square, Downieville, CA 95936.
Hernando County, Florida, and Incorporated Areas
Docket No.: FEMA-B-1149
Blue Sink Watershed | Approximately 700 feet downstream of Duck Pond Road (at Junction 1NP0170) | +41 | City of Brooksville, Unincorporated Areas of Hernando County.
| Approximately 100 feet upstream of Chinsegut Hill Road (at Junction 1NE0500) | +236
Bystre Lake Watershed | Approximately 280 feet downstream of Weatherly Road (at Junction 2NG1980) | +56 | City of Brooksville, Unincorporated Areas of Hernando County.
| Approximately 2,800 feet upstream of Griffin Road (at Junction 2NC1010) | +256
Centralia Watershed | Approximately 1 mile downstream of the intersection of U.S. Route 19 and Knuckey Road (at Junction 3NJ1550) | +8 | Unincorporated Areas of Hernando County.
| Approximately 1,200 feet upstream of Barrientos Lane (at Junction 3NR2100) | +186
Chassahowitzka River Watershed | Approximately 850 feet downstream of the intersection U.S. Route 19 and Nicasio Jay Avenue (at Junction 4NK1450) | +7 | Unincorporated Areas of Hernando County.
| Approximately 2,000 feet upstream of the intersection of Citrus Road and Thompson Loop (at Junction 4NC0900) | +158
Croom Watershed | Approximately 1,000 feet downstream of Malvern Street (at Junction 6NA0266) | +42 | City of Brooksville, Unincorporated Areas of Hernando County.
| Approximately 400 feet upstream of La Ruth Road (at Junction 6NC0405) | +201
Eastern Hernando Withlacoochee River Watershed | Approximately 2,600 feet downstream of the intersection of Nobleton Croom Road and Trail 9 (at Junction 7NB1530) | +41 | Unincorporated Areas of Hernando County.
| Approximately 2,000 feet upstream of the intersection of Poe County Lane and Power Line Road (at Junction 7NH0398) | +152
Little Withlacoochee River Watershed | Approximately 2,300 feet downstream of End of Nations Road, at the confluence of the Withlacoochee and Little Withlacoochee Rivers (at Junction 8NE0020) | +56 | Unincorporated Areas of Hernando County.
| Approximately 600 feet upstream of Carter Pond Road (at Junction 8NA9044) | +90
Lizzie Hart Sink Watershed | Approximately 50 feet downstream of the intersection of Brittle Road and Forest 24 Road (at Junction 9NF0040) | +43 | Unincorporated Areas of Hernando County.
| Approximately 5,000 feet upstream of the intersection of Jones Road and Snow Hill Road (at Junction 9NC0330) | +164
McKethan Watershed | Approximately 3,000 feet downstream of U.S. Route 41 and the Citrus County boundary (at Junction 10NF1000) | +38 | Unincorporated Areas of Hernando County.
| Approximately 850 feet upstream of the intersection of Chinsegut Hill Road and Pilots Path (at Junction 10NC0012) | +233
Oman Quarry Watershed | Approximately 220 feet downstream of Windjammer Drive (at Junction 11NB0070) | +9 | Unincorporated Areas of Hernando County.
| Approximately 50 feet upstream of the intersection of Gerbert Street and William Street (at Junction 11NI0080) | +37
Powell Watershed | Approximately 750 feet downstream of State Prison Drive (at Junction 13NB0095) | +62 | City of Brooksville, Unincorporated Areas of Hernando County.
| Approximately 2,000 feet upstream of the intersection of Powell Road and Mars Road (at Junction 13NK0240) | +134
Spring Hill Lakes Watershed | Approximately 4,500 feet downstream of the intersection of Suzanne Drive and Commercial Way (at Junction 14NAA0080) | +10 | Town of Weeki Wachee, Unincorporated Areas of Hernando County.
| Approximately 50 feet upstream of the intersection of Palmgren Lane and Mariner Boulevard (at Junction 14NG0425) | +69
Toachodka Watershed | Approximately 600 feet downstream of the intersection of Hickory Hill Road and Lockhart Road (at Junction 16NE0510) | +64 | Unincorporated Areas of Hernando County.
| Approximately 2,100 feet upstream of the intersection of Spring Hill Highway and Rosecrans Street (at Junction 16NA2680) | +225
Tooke Watershed | Approximately 1,600 feet downstream of Porpoise Street (at Junction 17NK1000) | +1 | Town of Weeki Wachee, Unincorporated Areas of Hernando County.
| Approximately 100 feet upstream of the intersection of Star Road and Madison Street (at Junction 17NB5230) | +107
Weeki Wachee Prairie Watershed | Approximately 400 feet downstream of the intersection of Azora Road and Watt Avenue (at Junction 18NA2170) | +19 | Unincorporated Areas of Hernando County.
| Approximately 100 feet upstream of the intersection of Spring Hill Drive and Whitewood Avenue (at Junction 18NB1065) | +76
Willow Sink Watershed | Approximately 100 feet downstream of the intersection of Lynn Road and India Drive (at Junction 19NG2360) | +19 | Unincorporated Areas of Hernando County.
| Approximately 100 feet upstream of the intersection of Star Road and Jayson Road (at Junction 19WISCON1) | +101
Wiscon Watershed | Approximately 380 feet downstream of the intersection of Elwood Road and Tacoma Avenue (at Junction 20NS0200) | +25 | Unincorporated Areas of Hernando County.
| Approximately 800 feet upstream of Dusty Pine Trail (at Junction 20NK0034) | +153
* National Geodetic Vertical Datum.
+ North American Vertical Datum.
# Depth in feet above ground.
‸ Mean Sea Level, rounded to the nearest 0.1 meter.
ADDRESSES
City of Brooksville
Maps are available for inspection at 201 Howell Avenue, Brooksville, FL 34601.
Town of Weeki Wachee
Maps are available for inspection at 6131 Commercial Way, Weeki Wachee, FL 34606.
Unincorporated Areas of Hernando County
Maps are available for inspection at 20 North Main Street, Brooksville, FL 34601.
Putnam County, Florida, and Incorporated Areas
Docket No.: FEMA-B-1163
Devall Branch | Approximately 181 feet downstream of the railroad | +6 | Unincorporated Areas of Putnam County.
| Just downstream of Davis Lake Road | +60
Two Mile Creek | Just downstream of Cherry Trail | +6 | City of Palatka, Unincorporated Areas of Putnam County.
| Approximately 251 feet upstream of Mellon Road | +57
Unnamed Tributary | Approximately 84 feet upstream of the confluence with Two Mile Creek | +12 | Unincorporated Areas of Putnam County.
| Approximately 184 feet upstream of Old Peniel Road | +51
* National Geodetic Vertical Datum.
+ North American Vertical Datum.
# Depth in feet above ground.
‸ Mean Sea Level, rounded to the nearest 0.1 meter.
ADDRESSES
City of Palatka
Maps are available for inspection at 201 North 2nd Street, Palatka, FL 32177.
Unincorporated Areas of Putnam County
Maps are available for inspection at 515 Reid Street, Building 1D, Palatka, FL 32177.
Montgomery County, Indiana, and Incorporated Areas
Docket No.: FEMA-B-1145
Dry Branch | At the confluence with Sugar Creek | +659 | City of Crawfordsville, Unincorporated Areas of Montgomery County.
| Approximately 0.5 mile upstream of Joe Allen Parkway | +766
Sugar Creek | Approximately 1.2 miles downstream of NYC Railroad | +647 | City of Crawfordsville, Unincorporated Areas of Montgomery County.
| Approximately 0.38 mile upstream of I-74 | +689
Unnamed Tributary Dry Branch | At the confluence with Dry Branch | +698 | City of Crawfordsville, Unincorporated Areas of Montgomery County.
| Approximately 260 feet upstream of County Road 150 South | +791
* National Geodetic Vertical Datum.
+ North American Vertical Datum.
# Depth in feet above ground.
‸ Mean Sea Level, rounded to the nearest 0.1 meter.
ADDRESSES
City of Crawfordsville
Maps are available for inspection at the Planning and Community Development Department, 300 East Pike Street, Crawfordsville, IN 47933.
Unincorporated Areas of Montgomery County
Maps are available for inspection at the Montgomery County South Boulevard Building, 110 West South Boulevard, Crawfordsville, IN 47933.
Wayne County, Michigan (All Jurisdictions)
Docket Nos.: FEMA-B-1041 and FEMA-B-1164
Apple Run/Horner Drain | At the confluence with Sines Drain | +688 | Township of Canton, Township of Van Buren.
| At the downstream side of Beck Road | +689
Bakewell Tile | At the confluence with Bell Branch | +671 | City of Livonia.
Extension Bell Branch | At the downstream side of Newburgh Road | +672
| At the upstream side of Ellen Drive | +654 | City of Livonia.
| At the downstream side of 5 Mile Road | +671
Belleville Lake | Entire shoreline within community | +653 | City of Belleville, Township of Van Buren.
Bingell Drain | At the upstream side of Hannan Road | +662 | Township of Canton.
| Approximately 30 feet upstream of Hannan Road | +663
Bird Marsh Drain | At the confluence with Day and Cutter Drain | +666 | Township of Sumpter.
| At the downstream side of Judd Road | +676
Blakely Drain | Approximately 575 feet west of Telegraph Road and just south of Pennsylvania Road | +610 | Charter Township of Brownstown.
| Approximately 400 feet west of Beech Daly Road and just south of Pennsylvania Road | +612
| At the upstream side of Pennsylvania Road | +615
| Approximately 50 feet upstream of Pennsylvania Road | +615
Blakely Drain | At the upstream side of King Road | +593 | City of Riverview.
| Approximately 300 feet east of Cascade Drive | +593
Bradshaw Drain | At the upstream side of Oakville-Waltz Road | +642 | Township of Sumpter.
| At the downstream side of Rawsonville Road | +667
Branch No. 1 Mosquito Drain | At the confluence with Mosquito Drain | +624 | Township of Sumpter, Township of Huron.
| Approximately 0.7 mile upstream of Arkona Road | +627
Brooks Drain | At the confluence with the Huron River | +616 | Township of Sumpter.
| At the downstream side of Haggerty Road | +655
Brownstown Creek | Approximately 1,500 feet upstream of Gudith Road | +599 | Charter Township of Brownstown, City of Woodhaven.
| Approximately 0.7 mile downstream of Sibley Road | +615
Carroll Drain | At the confluence with Burnap Drain | +631 | Township of Sumpter.
| At the downstream side of Martinsville Road | +638
Clark-Morey Drain | At the confluence with Lords Drain | +631 | Township of Sumpter.
| Approximately 200 feet downstream of Arkona Road | +645
Day and Cutter Drain | At the confluence with Bradshaw Drain | +666 | Township of Sumpter.
| At the downstream side of Judd Road | +674
Deacon Drain | Approximately 75 feet northeast of the intersection of Ethel Street and Outer Drive | +583 | City of Detroit.
| Approximately 175 feet northeast of the intersection of Bassett Street and Outer Drive | +583
Denton and Branch Drain | At the confluence with Apple Run | +688 | Township of Van Buren.
| Approximately 1,650 feet upstream of Beck Road | +688
Desbrow Drain | At the upstream side of Oakville-Waltz Road | +625 | Township of Sumpter.
| At the downstream side of Judd Road | +674
Detroit River | At the downstream side of Ambassador Bridge | +578 | City of Detroit, City of Grosse Pointe Park.
| At the confluence with Lake St. Clair | +579
Fellows Creek | At the confluence with the Lower River Rouge | +654 | Township of Canton.
| Approximately 175 feet downstream of Canton Center Road | +688
Frank and Poet Drain | Approximately 80 feet southeast of Allen Road and Orchard Avenue | +601 | City of Southgate.
| Approximately 275 feet southeast of Allen Road and Orchard Avenue | +601
Frank and Poet Drain | At the upstream side of Eureka Road | +605 | City of Taylor.
| At the downstream side of Inkster Road | +623
Green Meadow Drain | At the confluence with Tonquish Creek | +684 | Township of Canton.
| Approximately 850 feet upstream of Morton Taylor Road | +686
Head Drain | At the downstream side of Bemis Road | +670 | Township of Sumpter, Township of Van Buren.
| At the downstream side of Lohr Road | +684
Huntington Creek | Approximately 60 feet east of the intersection of Pennsylvania Avenue and 13th Street | +583 | City of Wyandotte.
| Approximately 50 feet east of the intersection of Pennsylvania Avenue and 13th Street | +583
Huron River | At the confluence with Lake Erie | +578 | Charter Township of Brownstown.
| Approximately 0.75 mile northwest of the intersection of Jefferson Avenue and Harbin Road | +578
Huron River | Approximately 1,450 feet southeast of the intersection of Huron River Drive and River Lane | +597 | Township of Huron.
| Approximately 1,300 feet southeast of the intersection of Huron River Drive and River Lane | +597
Johnson Drain | Approximately 300 feet upstream of Fairbrook Street | +788 | Charter Township of Plymouth, Township of Northville.
| Approximately 0.8 mile upstream of 5 Mile Road | +840
Johnson Drain Tributary | At the confluence with Johnson Drain | +811 | Township of Northville.
| Approximately 0.5 mile upstream of 7 Mile Road | +857
Jones Drain | At the confluence with the Huron River | +578 | Charter Township of Brownstown.
| At the downstream side of Main Park Road | +578
King Drain | At the confluence with North Branch Swan Creek | +633 | Township of Sumpter.
| Approximately 0.6 mile downstream of Judd Road | +637
Lake Erie | Entire shoreline within community | +578 | Charter Township of Brownstown.
Lake St. Clair | Entire shoreline within community | +579 | City of Grosse Pointe Farms; City of Grosse Pointe; City of Grosse Pointe Park; Village of Grosse Pointe Shores, A Michigan City.
Lamke Drain | At the confluence with Bradshaw Drain | +647 | Township of Sumpter.
| At the downstream side of Sherwood Road | +651
Lords Drain | At the confluence with Disbrow Drain | +628 | Township of Sumpter.
| At the downstream side of Sumpter Road | +639
Lower River Rouge | At the upstream side of Hannan Road | +653 | Township of Canton.
| At the upstream side of Ridge Road | +713
Marsh Creek | Approximately 400 feet south of Van Horn Road | +586 | City of Trenton.
| At the upstream side of Van Horn Road | +586
| Approximately 1,400 feet northwest of the intersection of Marian Drive and Longmeadow Drive | +589
McClaughrey Drain | At the downstream side of Van Born Road | +662 | City of Romulus, City of Wayne, Township of Van Buren.
| At the downstream side of I-275 North | +669
Morrison Drain | At the confluence with Silver Creek | +578 | Charter Township of Brownstown.
| Approximately 700 feet downstream of Woodruff Road | +578
Mosquito Drain | At the upstream side of Clark Road | +624 | Township of Huron, Township of Sumpter.
| At the downstream side of Haggerty Road | +628
Mott Drain | At the downstream side of Sheldon Road | +672 | Township of Canton.
| At the confluence with the Lower River Rouge | +672
No. 1 Drain | At the confluence with North Branch Swan Creek | +648 | Township of Sumpter.
| Approximately 110 feet downstream of Willis Road | +652
No. 3 Drain | At the confluence with North Branch Swan Creek | +656 | Township of Sumpter.
| At the downstream side of Clay Road | +658
North Branch Ecorse Creek | Approximately 90 feet downstream of Frank Avenue | +591 | City of Melvindale.
| Approximately 500 feet east of Enterprise Drive | +594
North Branch Swan Creek (lower) | At the downstream side of Clark Road | +626 | Township of Huron, Township of Sumpter.
| At the downstream side of Judd Road | +645
North Branch Swan Creek (upper) | At the upstream side of Elwell Road | +677 | Township of Sumpter, Township of Van Buren.
| At the downstream side of Rawsonville Road | +689
Olmstead Drain | At the confluence with Smith Creek | +587 | City of Flat Rock.
| At the downstream side of Olmstead Road | +587
Pickering Drain | At the confluence with North Branch Swan Creek | +632 | Township of Sumpter.
| At the upstream side of Haggerty Road | +632
River Rouge | At the confluence with the Detroit River | +577 | City of Detroit.
| Approximately 0.5 mile upstream of Jefferson Avenue | +577
Silver Creek | Approximately 400 feet downstream of Jefferson Avenue | +578 | Charter Township of Brownstown, City of Rockwood.
| At the downstream side of the railroad | +578
Silver Creek | Approximately 1,300 feet southwest of the intersection of Woodruff Road and Torry Avenue | +586 | City of Rockwood.
| Approximately 1,650 feet southwest of the intersection of Woodruff Road and Torry Avenue | +586
Sines Drain | At the confluence with the Lower River Rouge | +667 | Township of Canton, Township of Van Buren.
| At the downstream side of Mott Road | +707
Smith Creek (lower) | At the confluence with Silver Creek | +578 | Charter Township of Brownstown, City of Rockwood.
| At the downstream side of Huron River Drive | +578
Smith Creek (lower) | At the upstream side of I-75 South | +587 | Charter Township of Brownstown, City of Flat Rock, City of Woodhaven.
| Approximately 875 feet downstream of Telegraph Road | +599
Smith Creek (upper) | At the upstream side of Beech Daly Road | +607 | Charter Township of Brownstown, Township of Huron.
| At the upstream side of Inkster Road | +616
Smith Drain | At the upstream side of Puritan Street | +617 | City of Detroit.
| Approximately 160 feet upstream of Puritan Street | +617
South Branch Tonquish Creek | At the upstream side of Main Street | +703 | Charter Township of Plymouth, City of Plymouth.
| At the downstream side of Beck Road | +790
Tonquish Creek | Approximately 300 feet downstream of Holiday Boulevard | +660 | Charter Township of Plymouth, City of Plymouth, Township of Canton.
| At the downstream side of Territorial Road | +770
Tonquish Creek | Approximately 1,100 feet downstream of Wayne Road | +636 | City of Livonia.
| Approximately 700 feet downstream of Wayne Road | +636
Travis Drain | At the confluence with Willow Creek | +680 | Township of Canton.
| At the downstream side of Sheldon Road | +680
Upper River Rouge | At the confluence with the River Rouge | +617 | City of Detroit, Township of Redford.
| Approximately 1,800 feet upstream of 6 Mile Road | +625
Weightman and Branch Drain | At the confluence with North Branch Swan Creek | +638 | Township of Sumpter.
| Approximately 0.5 mile upstream of North Branch Swan Creek | +638
Willow Creek | Approximately 1,800 feet upstream of Lotz Road | +669 | Township of Canton.
| At the downstream side of Canton Center Road | +702
* National Geodetic Vertical Datum.
+ North American Vertical Datum.
# Depth in feet above ground.
‸ Mean Sea Level, rounded to the nearest 0.1 meter.
ADDRESSES
Charter Township of Brownstown
Maps are available for inspection at 21313 Telegraph Road, Brownstown, MI 48183.
Charter Township of Plymouth
Maps are available for inspection at 9955 North Haggerty Road, Plymouth, MI 48170.
City of Belleville
Maps are available for inspection at 6 Main Street, Belleville, MI 49615.
City of Detroit
Maps are available for inspection at 660 Woodward Avenue, Suite 1800, Detroit, MI 48226.
City of Flat Rock
Maps are available for inspection at 25500 Gibraltar Road, Flat Rock, MI 48134.
City of Grosse Pointe
Maps are available for inspection at 17147 Maumee Avenue, Grosse Pointe, MI 48230.
City of Grosse Pointe Farms
Maps are available for inspection at 90 Kerby Road, Grosse Pointe Farms, MI 48236.
City of Grosse Point Park
Maps are available for inspection at 15115 Jefferson Avenue, Grosse Pointe Park, MI 48230.
City of Livonia
Maps are available for inspection at 33000 Civic Center Drive, Livonia, MI 48154.
City of Melvindale
Maps are available for inspection at 3100 Oakwood Boulevard, Melvindale, MI 48122.
City of Plymouth
Maps are available for inspection at 201 South Main Street, Plymouth, MI 48170.
City of Riverview
Maps are available for inspection at 14100 Civic Park Drive, Riverview, MI 48193.
City of Rockwood
Maps are available for inspection at 32409 Fort Road, Rockwood, MI 48173.
City of Romulus
Maps are available for inspection at 11111 Wayne Road, Romulus, MI 48174.
City of Southgate
Maps are available for inspection at 14400 Dix-Toledo Highway, Southgate, MI 48195.
City of Taylor
Maps are available for inspection at 25605 Northline Road, Taylor, MI 48180.
City of Trenton
Maps are available for inspection at 2674 West Jefferson, Trenton, MI 48183.
City of Wayne
Maps are available for inspection at 4001 South Wayne Road, Wayne, MI 48184.
City of Woodhaven
Maps are available for inspection at 21869 West Road, Woodhaven, MI 48183.
City of Wyandotte
Maps are available for inspection at 3131 Biddle Avenue, Wyandotte, MI 48192.
Township of Canton
Maps are available for inspection at 1150 South Canton Center Road, Canton, MI 48188.
Township of Huron
Maps are available for inspection at 22950 Huron River Drive, New Boston, MI 48164.
Township of Northville
Maps are available for inspection at 44405 6 Mile Road, Northville, MI 48168.
Township of Redford
Maps are available for inspection at 12200 Beech Daly Road, Redford, MI 48239.
Township of Sumpter
Maps are available for inspection at 23480 Sumpter Road, Belleville, MI 48111.
Township of Van Buren
Maps are available for inspection at 46425 Tyler Road, Belleville, MI 48111.
Village of Grosse Pointe Shores, A Michigan City
Maps are available for inspection at 795 Lake Shore Road, Grosse Pointe Shores, MI 48236.
Coahoma County, Mississippi, and Incorporated Areas
Docket No.: FEMA-B-1159
Mill Creek | Approximately 200 feet upstream of North Desoto Avenue | +157 | City of Clarksdale, Town of Lyon.
| Approximately 650 feet upstream of Barkley Road | +162
Moore Bayou | Approximately 0.72 mile downstream of Coldwater Road | +170 | Town of Jonestown, Unincorporated Areas of Coahoma County.
| Approximately 0.57 mile upstream of Coldwater Road | +170
* National Geodetic Vertical Datum.
+ North American Vertical Datum.
# Depth in feet above ground.
‸ Mean Sea Level, rounded to the nearest 0.1 meter.
ADDRESSES
City of Clarksdale
Maps are available for inspection at City Hall, 115 1st Street, Clarksdale, MS 38614.
Town of Jonestown
Maps are available for inspection at the Town Hall, 219 Main Street, Jonestown, MS 38639.
Town of Lyon
Maps are available for inspection at the Town Hall, 111 Park Street, Lyon, MS 39645.
Unincorporated Areas of Coahoma County
Maps are available for inspection at the Coahoma County Courthouse, 121 Sunflower Avenue, Clarksdale, MS 38614.
Crook County, Oregon, and Incorporated Areas
Docket No.: FEMA-B-1163
Crooked River | Approximately 2.6 miles downstream of Ochoco Highway | +2833 | Unincorporated Areas of Crook County.
| Approximately 2.0 miles downstream of Ochoco Highway | +2836
Ochoco Creek | Approximately 0.7 mile downstream of Northwest Madras Highway | +2834 | City of Prineville, Unincorporated Areas of Crook County.
| Just downstream of Wayland Road | +3005
* National Geodetic Vertical Datum.
+ North American Vertical Datum.
# Depth in feet above ground.
‸ Mean Sea Level, rounded to the nearest 0.1 meter.
ADDRESSES
City of Prineville
Maps are available for inspection at City Hall, 387 Northeast 3rd Street, Prineville, OR 97754.
Unincorporated Areas of Crook County
Maps are available for inspection at the Crook County Courthouse, 300 Northeast 3rd Street, Prineville, OR 97754.
Putnam County, West Virginia, and Incorporated Areas
Docket No.: FEMA-B-1128
Buffalo Creek | At the confluence with the Kanawha River | +575 | Town of Eleanor, Unincorporated Areas of Putnam County.
| Approximately 1.77 miles upstream of the Town of Eleanor boundary | +577
Mill Creek | At the confluence with Hurricane Creek | +626 | City of Hurricane, Unincorporated Areas of Putnam County.
| Approximately 200 feet downstream of White Rock Drive | +678
Poplar Fork | At the confluence with Hurricane Creek | +585 | Unincorporated Areas of Putnam County.
| Approximately 95 feet downstream of Cow Creek Road | +585
Poplar Fork | Just upstream of the confluence with Long Branch | +626 | Unincorporated Areas of Putnam County.
| Approximately 130 feet downstream of State Route 34 | +646
* National Geodetic Vertical Datum.
+ North American Vertical Datum.
# Depth in feet above ground.
‸ Mean Sea Level, rounded to the nearest 0.1 meter.
ADDRESSES
City of Hurricane
Maps are available for inspection at City Hall, 3255 Teays Valley Road, Hurricane, WV 25526.
Town of Eleanor
Maps are available for inspection at the Town Hall, 401 Roosevelt Boulevard, Eleanor, WV 25070.
Unincorporated Areas of Putnam County
Maps are available for inspection at the Putnam County Office of Planning and Infrastructure, 3389 Winfield Road, Winfield, WV 25213.
Ritchie County, West Virginia, and Incorporated Areas
Docket No.: FEMA-B-1158
North Fork Hughes River | Approximately 0.55 mile downstream of Main Street | +670 | Town of Cairo.
| Approximately 0.41 mile upstream of Main Street | +673
* National Geodetic Vertical Datum.
+ North American Vertical Datum.
# Depth in feet above ground.
‸ Mean Sea Level, rounded to the nearest 0.1 meter.
ADDRESSES
Town of Cairo
Maps are available for inspection at the Cairo Town Hall, 115 East Main Street, Harrisville, WV 26362.
Douglas County, Wisconsin, and Incorporated Areas
Docket No.: FEMA-B-1158
Bond Lake | Entire shoreline within community | +1035 | Unincorporated Areas of Douglas County.
Lake Minnesuing | Entire shoreline within community | +1117 | Unincorporated Areas of Douglas County.
Lake Nebagamon | Entire shoreline within community | +1111 | Village of Lake Nebagamon.
Lake Superior | Entire shoreline within community | +605 | City of Superior, Unincorporated Areas of Douglas County, Village of Oliver, Village of Superior.
Leader Lake | Entire shoreline within community | +1036 | Unincorporated Areas of Douglas County.
Lower Eau Claire Lake | Entire shoreline within community | +1124 | Unincorporated Areas of Douglas County.
Lyman Lake | Entire shoreline within community | +1190 | Unincorporated Areas of Douglas County.
Nemadji River | Just downstream of the Hammond Avenue abandoned bridge | +623 | Village of Superior.
| Approximately 1 mile upstream of the Hammond Avenue abandoned bridge | +624
St. Croix Flowage | Entire shoreline within community | +1018 | Unincorporated Areas of Douglas County.
* National Geodetic Vertical Datum.
+ North American Vertical Datum.
# Depth in feet above ground.
‸ Mean Sea Level, rounded to the nearest 0.1 meter.
ADDRESSES
City of Superior
Maps are available for inspection at 1316 North 4th Street, Superior, WI 54880.
Unincorporated Areas of Douglas County
Maps are available for inspection at 1313 Belknap Street, Superior, WI 54880.
Village of Lake Nebagamon
Maps are available for inspection at 11596 East Waterfront Street, Lake Nebagamon, WI 54849.
Village of Oliver
Maps are available for inspection at 2931 South Winona Avenue, Superior, WI 54880.
Village of Superior
Maps are available for inspection at 6702 Ogden Avenue, Superior, WI 54880.

(Catalog of Federal Domestic Assistance No. 97.022, “Flood Insurance.”)

Dated: January 12, 2012.
Sandra K. Knight,
Deputy Associate Administrator for Mitigation, Department of Homeland Security, Federal Emergency Management Agency.

[FR Doc. 2012-1432 Filed 1-24-12; 8:45 am]

BILLING CODE 9110-12-P